DEPARTMENT OF COMMERCE

International Trade Administration

Notice of Scope Rulings

AGENCY: Import Administration, International Trade Administration, Department of Commerce.

EFFECTIVE DATE: July 28, 2006.

SUMMARY: The Department of Commerce (the Department) hereby publishes a list of scope rulings completed between April 1, 2006, and June 30, 2006. In conjunction with this list, the Department is also publishing a list of requests for scope rulings and anticircumvention determinations pending as of June 30, 2006. We intend to publish future lists after the close of the next calendar quarter.

FOR FURTHER INFORMATION CONTACT: Alice Gibbons, AD/CVD Operations, Office 2, Import Administration, International Trade Administration, U.S. Department of Commerce, 14th Street and Constitution Avenue, NW, Washington, DC 20230; telephone: (202) 482-0498.

SUPPLEMENTARY INFORMATION:

Background

The Department's regulations provide that the Secretary will publish in the Federal Register a list of scope rulings on a quarterly basis. See 19 CFR 351.225(o). Our most recent “Notice of Scope Rulings” was published on May 3, 2006. See 71 FR 26050. The instant notice covers all scope rulings and anticircumvention determinations completed by Import Administration between April 1, 2006, and June 30, 2006, inclusive. It also lists any scope or anticircumvention inquiries pending as of June 30, 2006, as well as scope rulings inadvertently omitted from prior published lists. As described below, subsequent lists will follow after the close of each calendar quarter.

Scope Rulings Completed Between April 1, 2006 and June 30, 2006:

Canada

A-122-838, C-122-839: Certain Softwood Lumber Products from Canada

Requestor: Montana Reclaimed Lumber Co.; antique softwood lumber reclaimed from demolition projects is within the scope of the orders; May 2, 2006.

People's Republic of China

A-570-504: Petroleum Wax Candles from the People's Republic of China

Requestor: Yasmina Fashion Corp.; its large and small “Lazer Snowman” candles are not included within the scope of the antidumping duty order; June 29, 2006.

A-570-868: Folding Metal Tables and Chairs from the People's Republic of China

Requestor: Mac Industries (Shanghai) Co., Ltd., Jiaxing Yinmao International Treading Co., Ltd., and Fujian Zenithen Consumer Products Co., Ltd.; their “moon chair” is not included within the scope of the antidumping duty order; May 1, 2006.

A-570-886: Polyethylene Retail Carrier Bags from the People's Republic of China

Requestor: Consolidated Packaging LLP; 35 of its 58 plastic bags are not included within the scope of the antidumping duty order; June 5, 2006.

A-570-891: Hand Trucks and Certain Parts Thereof from the People's Republic of China

Requestor: Gleason Industrial Products, Inc. and Precision Products, Inc.; the “Black and Decker Workmate 525” and “Black and Decker Workmate 500” are included within the scope of the antidumping duty order; June 15, 2006.

Anticircumvention Determinations Completed Between April 1, 2006 and June 30, 2006:

Socialist Republic of Vietnam

A-552-801: Certain Frozen Fish Fillets from the Socialist Republic of Vietnam

Requestor: Catfish Farmers of America and certain individual U.S. catfish processors; imports of frozen fish fillets produced by Lian Heng Trading Co. Ltd. and Lian Heng Investment Co. Ltd. (collectively, “Lian Heng”), are circumventing the antidumping duty order on frozen fish fillets from the Socialist Republic of Vietnam, as provided in section 781(b) of the Act, and frozen fish fillets produced by Lian Heng are within the scope of the antidumping duty order on frozen fish fillets from the Socialist Republic of Vietnam; June 30, 2006.

Scope Inquiries Terminated Between April 1, 2006 and June 30, 2006:

Socialist Republic of Vietnam

A-552-801: Certain Frozen Fish Fillets From the Socialist Republic of Vietnam

Requestor: Piazza Seafood World LLC; whether certain basa and tra fillets from Cambodia which are a product of Vietnam are included within the antidumping duty order; rescinded June 30, 2006.

Scope Inquiries Pending as of June 30, 2006:

Italy

A-475-059: Pressure Sensitive Plastic Tape from Italy

Requestor: Ritrama, Inc.; whether certain varieties of plastic tape are within the scope of the antidumping duty order; requested December 13, 2005; initiated January 30, 2006.

People's Republic of China

A-570-502: Iron Construction Castings from the People's Republic of China

Requestor: Unisource International, Inc.; whether certain frames and grates are within the scope of the antidumping duty order; requested May 11, 2006.

A-570-504: Petroleum Wax Candles from the People's Republic of China

Requestor: Atico International, Inc.; whether its “Christmas Stocking Tealight,” “Halloween Witch Shoe,” “Halloween Novelty Ghost,” “Halloween Novelty Tombstone,” “Halloween Bloody Skull,” “Halloween Novelty JOL,” “Halloween Novelty Pumpkin,” “Halloween Novelty Frankenstein,” and “Santas Boot” candles are within the scope of the antidumping duty order; requested April 27, 2006.

A-570-504: Petroleum Wax Candles from the People's Republic of China

Requestor: Freight Expediters; whether its “Small Artichoke” and “Large Artichoke,” “Small Pinecone” and “Large Pinecone,” “Cabbage” and “Radishes” candles are within the scope of the antidumping duty order; requested May 17, 2006.

A-570-504: Petroleum Wax Candles from the People's Republic of China

Requestor: Kohl's Department Stores; whether its “Santa Head” candle, Style No. L50050, is within the scope of the order; requested June 30, 2006.

A-570-504: Petroleum Wax Candles from the People's Republic of China

Requestor: Kohl's Department Stores; whether its “Berry Ball Candle,” Style No. X5478, is within the scope of the order; requested June 30, 2006.

A-570-803: Heavy Forged Hand Tools, Finished or Unfinished, With or Without Handles, from the People's Republic of China

Requestor: Central Purchasing, LLC; whether its gooseneck claw wrecking bar is within the scope of the bars and wedges antidumping duty order; requested March 13, 2006.

A-570-832: Pure Magnesium from the People's Republic of China

Requestor: U.S. Magnesium LLC; whether pure and alloy magnesium processed in Canada, France, or any third country and exported to the United States using pure magnesium ingots originally produced in the PRC is within the scope of the antidumping duty order; requested July 19, 2005; initiated September 2, 2005.

A-570-864: Granular Pure Magnesium from the People's Republic of China

Requestor: ESM Group Inc.; whether atomized magnesium produced in the PRC from pure magnesium manufactured in the United States is within the scope of the antidumping duty order; requested April 11, 2006.

A-570-878: Saccharin from the People's Republic of China

Requestor: PMC Specialities Group, Inc.; whether certain saccharin products originating in the PRC and further-processed in Israel are within the scope of the antidumping duty order; requested August 12, 2005; initiated October 26, 2005.

A-570-886: Polyethylene Retail Carrier Bags from the People's Republic of China

Requestor: Consolidated Packaging LLP; whether 23 of its 58 plastic bags are within the scope of the antidumping duty order; requested August 19, 2006; initiated June 5, 2006.

A-570-890: Wooden Bedroom Furniture from the People's Republic of China

Requestor: Dorel Asia; whether infant (baby) changing tables and toddler beds are within the scope of the antidumping duty order; requested February 15, 2005; initiated November 14, 2005.

A-570-890: Wooden Bedroom Furniture from the People's Republic of China

Requestor: Tuohy Furniture Corporation; whether certain storage towers, headboards, wainscoting, wood panels, a TV stand, bedside tables, and coffee tables are within the scope of the antidumping duty order; requested April 5, 2006.

A-570-890: Wooden Bedroom Furniture from the People's Republic of China

Requestor: Maersk Customs Services, Inc.; whether a vanity mirror and a vanity are within the scope of the antidumping duty order; requested April 19, 2006.

A-570-890: Wooden Bedroom Furniture from the People's Republic of China

Requestor: American Signature Incorporated; whether its mirrored chests, leather bed, and micro-fiber bed are within the scope of the antidumping duty order; requested June 5, 2006.

A-570-896: Magnesium Metal from the People's Republic of China

Requestor: U.S. Magnesium LLC; whether pure and alloy magnesium processed in Canada, France, or any third country, and exported to the United States using pure magnesium ingots originally produced in the PRC, is within the scope of the antidumping duty order; requested July 19, 2005; initiated September 2, 2005.

Anticircumvention Inquiries Pending as of June 30, 2006:

People's Republic of China

A-570-504: Petroleum Wax Candles from the People's Republic of China

Requestor: National Candle Association; whether imports of palm and vegetable-based wax candles from the PRC can be considered later-developed merchandise which is now circumventing the antidumping duty order; requested October 8, 2004; initiated February 25, 2005.

A-570-504: Petroleum Wax Candles from the People's Republic of China

Requestor: National Candle Association; whether imports of palm and vegetable-based wax candles from the PRC can be considered a minor alteration to the subject merchandise for purposes of circumventing the antidumping duty order; requested October 12, 2004; initiated February 25, 2005.

A-570-504: Petroleum Wax Candles from the People's Republic of China

Requestor: National Candle Association; whether imports of candles from the PRC without wicks, into which wicks are then inserted after importation, can be considered “merchandise completed or assembled in the United States” and are circumventing the antidumping duty order; requested December 14, 2005; initiated May 11, 2006.

A-570-868: Folding Metal Tables and Chairs from the People's Republic of China

Requestor: Meco Corporation; whether adding a cross-brace to folding metal tables from the PRC to join two legs into pairs can be considered minor alterations to merchandise, which is now circumventing the antidumping duty order (the scope defines the legs of folding metal tables as “legs that mechanically fold independently of one another”); requested October 31, 2005; initiated June 1, 2006.

Scope Rulings Inadvertently Omitted from Prior Published Lists:

None.

Interested parties are invited to comment on the completeness of this list of pending scope and anticircumvention inquiries. Any comments should be submitted to the Deputy Assistant Secretary for AD/CVD Operations, Import Administration, International Trade Administration, 14th Street and Constitution Avenue, NW., Room 1870, Washington, DC 20230.

This notice is published in accordance with 19 CFR 351.225(o).

Dated: July 24, 2006.
Stephen J. Claeys,
Deputy Assistant Secretary for Import Administration.

[FR Doc. E6-12120 Filed 7-27-06; 8:45 am]

BILLING CODE 3510-DS-S